DEPARTMENT OF COMMERCE

National Oceanic and Atmospheric Administration

50 CFR Part 679

[Docket No. 9812224323-9226-02; I.D. 120198B]

RIN 0648-AL23

Fisheries of the Exclusive Economic Zone Off Alaska; Recordkeeping and Reporting; Correction

AGENCY: National Marine Fisheries Service (NMFS), National Oceanic and Atmospheric Administration (NOAA), Commerce.

ACTION: Final rule; correction.

SUMMARY: This document contains a correction to the final rule for recordkeeping and reporting that was published in the Federal Register on November 15, 1999.

DATES: Effective December 15, 1999.

FOR FURTHER INFORMATION CONTACT: Patsy A. Bearden, 907-586-7008.

SUPPLEMENTARY INFORMATION: A final rule was published in the Federal Register on November 15, 1999 (64 FR 61964), to revise recordkeeping and reporting regulations. Figures 1 and 3 to 50 CFR part 679 list Federal reporting areas and coordinates for the boundaries of those areas. Recently the coordinates of Figures 1 and 3 were plotted using a Geographic Information System. This highly accurate plotting procedure revealed several errors in the published points depicting the boundary between the Bering Sea and the Gulf of Alaska. NMFS correctly revises the description of reporting areas 518 and 519 in Figure 1b and the description of reporting area 610 in Figure 3b.

Correction

In the final rule Revisions to Recordkeeping and Reporting Requirements published in 64 FR 61964, November 15, 1999, FR Doc. 99-28294, correct Figure 1b to Part 679 and Figure 3b to part 679.

On page 61984, under Figure 1 to Part 679—BSAI Statistical and Reporting Areas: b. Coordinates, correctly revise the description of reporting areas 518 and 519 to read as follows:

Figure 1 to Part 679—BSAI Statistical and Reporting Areas
b. Coordinates
Code | Description
* * * * * * *
518 | Bogoslof District: South of a straight line between 55°46′ N lat, 170°00′ W long and 54°30′ N lat, 167°00′ W long, and between 167°00′ W long and 170°00′ W long, and north of the Aleutian Islands and straight lines between the islands connecting the following coordinates in the order listed: 52°49.18′ N, 169°40.47′ W 52°49.24′ N, 169°07.10′ W 53°23.13′ N, 167°50.50′ W 53°18.95′ N, 167°51.06′ W
519 | South of a straight line between 54°30′ N lat, 167°00′ W long and 54°30′ N lat, 164°54′ W long; east of 167°00′ W long; west of Unimak Island; and north of the Aleutian Islands and straight lines between the islands connecting the following coordinates in the order listed: 53°58.97′ N, 166°16.50′ W 54°02.69′ N, 166°02.93′ W 54°07.69′ N, 165°39.74′ W 54°08.40′ N, 165°38.29′ W 54°11.71′ N, 165°23.09′ W 54°23.74′ N, 164°44.73′ W
* * * * * * *

On page 61987, under Figure 3 to Part 679—Gulf of Alaska Statistical and Reporting Areas: b. Coordinates, correctly revise the description of reporting area 610 to read as follows:

Figure 3 to Part 679-Gulf of Alaska Statistical and Reporting Areas
b. Coordinates
Code | Description
610 | Western Regulatory Area, Shumagin District. Along the south side of the Aleutian Islands, including those waters south of Nichols Point (54°51′ 30″ N lat) near False Pass, and straight lines between the islands and the Alaska Peninsula connecting the following coordinates in the order listed: I1152°49.18′ N, 169°40.47′ W; 52°49.24′ N, 169°07.10′ W; 53°23.13′ N, 167°50.50′ W; 53°18.95′ N, 167°51.06′ W; 53°58.97′ N, 166°16.50′ W; 54°02.69′ N, 166°02.93′ W; 54°07.69′ N, 165°39.74′ W; 54°08.40′ N, 165°38.29′ W; 54°11.71′ N, 165°23.09′ W; 54°23.74′ N, 164°44.73′ W; and
southward to the limits of the US EEZ as described in the current editions of NOAA chart INT 813 (Bering Sea, Southern Part) and NOAA chart 500 (West Coast of North America, Dixon Entrance to Unimak Pass), between 170°00′ W long and 159°00′ W long.
* * * * * * *

Dated: April 25, 2000.
Penelope D. Dalton,
Assistant Administrator for Fisheries, National Marine Fisheries Service.

[FR Doc. 00-10795 Filed 4-28-00; 8:45 am]

BILLING CODE 3510-22-F